DEPARTMENT OF ENERGY

Federal Energy Regulatory Commission

[Docket No. PR02-10-000]

Enogex, Inc.; Notice of Petition for Rate Approval

January 4, 2002.

Take notice that on December 18, 2001, Enogex Inc. (Enogex) filed a petition for approval for a rate for interruptible Section 311 transportation service on expanded facilities, the Enogex System, the result of the merger of Enogex, Inc. and Transok, LLC, scheduled for January 1, 2002. The rate will become effective January 1, 2002. Enogex proposes a rate of $0.70 per MMBtu for interruptible service on the Enogex System, as well as a combined fuel tracker rate of 1.51% plus actual fuel for use of low pressure compression and dehydration facilities.

Any person desiring to participate in this rate proceeding must file a motion to intervene or protest with the Federal Energy Regulatory Commission, 888 First Street, NE., Washington, DC 20426, in accordance with rules 211 and 214 of the Commission's Rules of Practice and Procedure (18 CFR 385.211 and 385.214). All motions must be filed with the Secretary of the Commission on or before the comment date. This petition for rate approval is on file with the Commission and is available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Comment Date: January 11, 2002.

Linwood A. Watson, Jr.,
Acting Secretary.

[FR Doc. 02-574 Filed 1-9-02; 8:45 am]

BILLING CODE 6717-01-P